DEPARTMENT OF DEFENSE

Department of the Army

Draft Legislative Environmental Impact Statement for Training and Public Land Withdrawal Extension, Fort Irwin, California

AGENCY: Department of the Army, Department of Defense.

ACTION: Notice of availability.

SUMMARY: The Department of the Army announces the availability of the Draft Environmental Impact Statement (EIS) for Training and Public Land Withdrawal Extension, Fort Irwin, California. In accordance with the National Environmental Policy Act (NEPA), the Draft EIS analyzes the potential environmental effects resulting from modernization of training activities and improvement of training facilities at the National Training Center (NTC) at Fort Irwin, California. The Army is also issuing this notice to inform the public that the EIS will serve as a Legislative Environmental Impact Statement (LEIS) to support the extension of the public land withdrawal for portions of Fort Irwin.

DATES: Comments must be received July 6, 2021.

ADDRESSES: Written comments should be forwarded to the NEPA Planner, Fort Irwin Directorate of Public Works, Environmental Division, Building 602, Fifth Street, Fort Irwin, CA 92310-5085, email: usarmy.jbsa.aec.nepa@mail.mil.

FOR FURTHER INFORMATION CONTACT: Mr. Jason Miller, Fort Irwin Public Affairs Office at 760-380-4511, Monday through Friday from 7:30 a.m. to 4:00 p.m. or via email at usarmy.irwin.ntc .mbx.ntc-eis-info-request@mail.mil.

SUPPLEMENTARY INFORMATION: Fort Irwin consists of approximately 753,537 acres in the Mojave Desert in San Bernardino County in southern California. The NTC at Fort Irwin provides combined arms training for maneuver Brigade Combat Teams (BCTs), including the Army's Stryker BCTs and Armored BCTs. Training also is provided for joint military branches (Marine Corps, Navy, and Air Force), Army Reserve, National Guard units, and regular and transitional law enforcement units, as well as home station units. Because of its size, design, and terrain, Fort Irwin is one of the few places in the world where brigade-size units (5,000+ soldiers) can test their combat readiness.

Fort Irwin's mission is to train Rotational Training Units (RTUs) and joint, interagency, and multinational partners to fight and win in a complex world, while taking care of soldiers, civilians, and family members. To achieve this mission, NTC designs and executes training exercises that prepare brigade-level units for operational deployments. Up to 12 BCT rotations are executed per year.

The Draft EIS analyzes the potential effects from the modernization of training, the improvement of training infrastructure, and the extension of the existing land withdrawal. Training changes are required to support new training doctrine that focuses on large Army formations operating against near-peer adversaries. To reflect weapon systems capabilities and evolving mission requirements, improvements need to be made to training infrastructure.

Approximately 110,000 acres of Fort Irwin training land areas are public land that has been withdrawn from all types of appropriation and reserved for military purposes under Public Law 107-107 (2001). This public land withdrawal terminates on December 28, 2026. The Army has identified a continuing military need for the land beyond the termination date and intends to request that the U.S. Congress extend the withdrawal for at least 25 years, or in the alternative, for an indefinite period until there is no longer a military need for the land. Upon a separate application by the Army, the Bureau of Land Management will file in the Federal Register a separate notice of withdrawal extension application. The Final EIS will be submitted to the U.S. Congress as an LEIS to support the legislative request for extension of this withdrawal and reservation.

The Draft EIS analyzes a range of Proposed Mission Change Alternatives, a No Mission Change Alternative, a Withdrawal Extension Alternative, and a No Withdrawal Extension Alternative. The Mission Change Alternatives consist of different magnitudes of changes in training and training infrastructure; for Fort Irwin's Western Training Area, the EIS considers a range of medium-to-heavy intensity training alternatives. The No Mission Change Alternative would continue military training at the current level and would result in no modernization of training or improvement of training infrastructure on Fort Irwin. The Army is the decision maker regarding the Mission Change Alternatives.

The Withdrawal Extension Alternative would extend the current withdrawal for 25 years or indefinitely until there is no longer a military need for the land. The No Withdrawal Extension Alternative would result in portions of the installation returning to public domain. The U.S. Congress is the decision maker regarding the Withdrawal Alternatives.

All military activities under consideration would be conducted within the existing boundaries of the installation. The Draft EIS evaluates the potential direct, indirect, and cumulative environmental and socioeconomic effects of these alternatives. Adverse effects would be minimized to the extent possible through the implementation of specified avoidance, minimization, and mitigation measures.

The Army Preferred Alternative has not been determined at this time and will be specified the Final EIS.

The resource areas analyzed in the DEIS include air quality, transportation, noise, water resources, geological resources, biological resources, cultural resources, noise, utilities, land use, recreation, health and safety, and hazardous materials and waste. The effects on these resources may occur from changing the scope or magnitude of military training activities within the current Fort Irwin boundaries. The analysis also considers the potential for cumulative environmental effects.

Both the Mission Change Alternatives and the No Mission Change Alternative would result in unavoidable environmental effects. Under the No Mission Change Alternative, there would be less than significant effects on all evaluated resources. The Mission Change Alternatives would result in minor-to-moderate adverse effects that would be in addition to the effects of the No Mission Change Alternative; however, none of the effects would be significant.

The environmental effects from the Withdrawal Extension Alternative would be comparable to those discussed for the Mission Change Alternatives. While the effects of the No Withdrawal Extension Alternative are uncertain, because of the unknown future uses of these areas if Army training is not conducted, it is expected that the No Withdrawal Extension Alternative would result in negligible effects on resources compared to the Withdrawal Extension Alternative.

Federal, state, and local agencies, Native Americans, Native American organizations, and the public are invited to be involved in the public comment process for the Draft EIS by submitting written comments. Written comments must be received or postmarked by July 6, 2021. In response to the COVID-19 pandemic in the United States and the Centers for Disease Control and Prevention's recommendations for social distancing and avoiding large public gatherings, the Army will not hold in-person public comment meetings for this action. All government agencies, special interest groups, and individuals are invited to participate in the Army's decision-making process for this Proposed Action. [A 45-day public review period for the Draft EIS will begin after publication in the Federal Register]. Information on the Draft EIS will be provided online through a virtual town hall, and the public meeting will be hosted by telephone. Interested parties are invited to attend two public telephone meetings (date to be determined, and included in this notice, based on scheduled Federal Register publication date). The first telephone meeting will be held from 10:00 a.m. to 2:00 p.m. Pacific Daylight Time and the second telephone meeting will be held from 4:00 p.m. to 8:00 p.m. Pacific Daylight Time. The dial-in number for both telephone meetings is 888-251-2949 or 215-861-0694, with a passcode of 6920265# for the 10:00 a.m. meeting and 6091656# for the 4:00 p.m. meeting. Persons unable to access the virtual town hall can submit a request for meeting materials to: usarmy.jbsa.aec.nepa@mail.mil. Specific details, including date, of the telephone meetings will be announced in local media and on the Fort Irwin EIS website: https://aec.army.mil/index.php/irwin-nepa-meeting.

The Draft EIS will be posted on the website and, for those who do not have ready access to a computer or the internet, will be made available upon request by mail. Inquiries, requests for Draft EIS-related materials, and comments regarding the Draft EIS may be submitted by mail to the NEPA Planner, Fort Irwin Directorate of Public Works, Environmental Division, Building 602, Fifth Street, Fort Irwin, CA 92310-5085. Mail must be postmarked no later than June 7, 2021, to allow the meeting materials to be sent by the U.S. Postal Service. An electronic copy of the Draft EIS will be made available for view online or download from the Fort Irwin EIS website: https://aec.army.mil/index.php/irwin-nepa-meeting. Notification of the public telephone meetings will be announced in the local news media and on the Fort Irwin EIS website.

To ensure the Army has sufficient time to consider public input in the preparation of the Final EIS, written comments must be submitted on the website or mailed to the address listed previously no later than July 6, 2021.

The Department of the Army will consider all comments received on the Draft EIS when preparing the Final EIS and will announce the availability of the Final EIS. The Bureau of Land Management will organize public participation following the publication of its notice of application for extension of the public land withdrawal.

James W. Satterwhite, Jr.,
Army Federal Register Liaison Officer.

[FR Doc. 2021-10504 Filed 5-20-21; 8:45 am]

BILLING CODE 5061-AP-P